POSTAL SERVICE

39 CFR Part 111

New Mailing Standards for Domestic Mailing Services Products

AGENCY: Postal Service™.

ACTION: Final rule.

SUMMARY: On September 26, 2013, the Postal Service filed a notice of mailing services price adjustments with the Postal Regulatory Commission (PRC), effective January 26, 2014. This final rule contains the revisions to Mailing Standards of the United States Postal Service, Domestic Mail Manual (DMM®) that we will adopt to implement the changes coincident with the price adjustments.

DATES: Effective Date: January 26, 2014.

FOR FURTHER INFORMATION CONTACT: Bill Chatfield at 202-268-7278, Lizbeth Dobbins at 202-268-3789, or Steve Monteith at 202-268-6983.

SUPPLEMENTARY INFORMATION: Prices are available under Docket Nos. R2013-10 and R2010-4R on the Postal Regulatory Commission's Web site at www.prc.gov.

The Postal Service's final rule includes new pricing eligibility for retail and commercial nonpresorted First-Class Mail® letters, several mail classification changes, and condensing of current standards for Periodicals publications. Directly below, we discuss comments on proposed changes, and the Postal Service response to those comments, followed by a summary of all the changes.

Comments on Proposed Changes

The Postal Service received four formal comments on our price-change related proposal.

The Postal Service had proposed to disallow adhesive labels on all sacks and trays. We received one formal comment and one informal comment about this. We will be disallowing adhesive labels only for trays. Also, we are working with the mailing industry to evaluate the technological and operational feasibility of alternatives to current labeling methods.

A mailer association disagreed with the 200-piece minimum for permit imprint mailings of First-Class Mail letters at the new metered price. The 200-piece minimum for permit imprint mailings of letters is not a new standard and is not being changed at this time. First-Class Mail letters that are residual from a presort or automation mailing and are presented with that mailing are not subject to a separate minimum.

Regarding flats sequencing system (FSS), a mailer association suggested to change the required minimum for an FSS scheme pallet to 500 pounds instead of 250 pounds. We note that mailers who currently choose to prepare FSS mail must make FSS scheme or FSS facility pallets when the quantity reaches 250 pounds, so that minimum is not a change. Also, the FSS facility pallet is currently required at 250 pounds for those choosing to prepare FSS pallets, whereas it will not be a required pallet level in January. While the 250-pound requirement may result in more pallets in some cases, it is very important that the FSS mail be separated from other mail for efficient processing. Also, we are increasing the allowed number of stacked pallets from 4 to 6, which will increase logistical flexibility.

The same mailer association also questioned specific FSS piece prices that were developed for software coding; other than Bound Printed Matter pricing, those prices are placeholders for possible future application. Except for ADC and MADC pieces (which will be eligible for 3-digit prices), pieces in an FSS bundle will be eligible for the price they would otherwise be eligible for according to the qualification documentation.

Regarding the price charts for Standard Mail, FSS scheme pallets may be entered at origin, or at DNDC, DSCF, or DFSS entry points, but the tenth of a cent discount price will be only for flats placed on FSS scheme pallets entered at DFSS entry points.

We received one comment about the revision to the claims standards requiring that a fair market value of insured coins or stamps be current and prior to the mailing date. The commenter asked if the USPS® would be advising each mailer mailing insured items of this change. We consider that this revision is primarily a clarification and provides equal protection for the mailer and the USPS regarding potentially significant fluctuations in the value of those items. The proposal provides sufficient public notice.

We received three suggestions from the same commenter regarding handstamps with an addressee's printed signature and address: one to allow mechanical devices similar to handstamps, one to declare that a handstamp is legally binding, and the other to state that handstamps must be applied by the addressee (or agent). We are not expanding this section to allow similar devices; and we consider that the current language, that a handstamp is an optional way of providing the signature, is sufficient. We do agree to state that such handstamps must be used by the addressee or agent.

A mailer association questioned how we will check compliance with full-service automation requirements. There were no items regarding full-service as part of this proposal. Questions about compliance with full-service standards should be directed to the Vice-President of Mail Entry and Payment Technology. We received one formal complaint about the proposed disallowance of simplified addresses on detached address labels (DALs) used with Standard Mail flats, thus requiring mailers to use complete delivery addresses on such DALs. This change would require complete addresses on the DALs, or the mailer could still use simplified addresses directly on the flats. Although we are not removing this change, mailers with exceptional circumstances that preclude them from transitioning to complete delivery addresses by January while retaining their customary volume of this type of mail may request limited exceptions (through their district manager, business mail entry) from the Pricing and Classification Service Center.

Change for Letters

Retail and Commercial First-Class Mail Letters

The Postal Service adds a new single-piece nonpresorted First-Class Mail letter price category to be called Metered Mail. Prices for this category are separate from other retail single-piece First-Class Mail letters, and apply to First-Class Mail letters when postage is affixed or imprinted by the mailer for metered indicia, PC Postage®, precanceled stamps, or permit imprint. There is no minimum volume, except for pieces paid by permit imprint, for which the existing minimum of 200 pieces would apply. These prices also apply to residual pieces from automation or presorted First-Class Mail letter mailings, presented in letter trays. When such residual pieces are part of a permit imprint mailing for the presorted or automation mailing, and claimed on the same postage statement as the primary mailing, there is no separate minimum number of pieces for the commercial nonpresorted portion.

The Postal Service modifies the current price structure for residual First-Class Mail letters. Residuals from uniform 1-ounce presort letter mailings will pay the 1-ounce Metered letter price. Residuals from uniform 2-ounce presort letter mailings will pay the 2-ounce Metered letter price Residuals from mixed presort mailings of 1-ounce and 2-ounce letters will pay the “blended” First-Class Mail Residual letter price and not be subject to the Metered Mail price.

Changes for Flats

Standard Mail® Flats

We will disallow the use of detached address labels (DALs) with all Standard Mail flats mailed with simplified addresses (EDDM®). Therefore, all EDDM flats (entered at BMEUs or Retail) must bear simplified addresses directly on the flats.

Required Flats Sequencing System (FSS) Preparation

The Postal Service introduced optional FSS preparation standards in the August 23, 2010 Federal Register final rule (75 FR 51668-51671) which were incorporated into the DMM on January 2, 2011. These FSS preparation standards were developed in collaboration with the mailing industry group, including both mail owners and mail service providers. This industry group determined that the preparation of bundles and pallets specifically for FSS processing could lead to greater efficiencies and cost savings for both the USPS and the mailing industry. In the August 23, 2010 final rule, the Postal Service also provided advance notice that FSS-based mail preparation requirements would become mandatory at some point in the future. As of January 26, 2014, the Postal Service requires bundle and pallet preparation of flat-size Standard Mail, Periodicals and Bound Printed Matter mailpieces prepared for delivery within the ZIP Codes™ served by FSS processing. With this revision, mailers are required to place mailings of presorted and basic carrier route Standard Mail flats, and Periodicals and Bound Printed Matter presorted and carrier route flats, meeting the deflection standards and the physical standards in DMM 301.3.2, and combined mailings of Standard Mail and Periodicals flats prepared under DMM 705.15 into combined 5-digit FSS scheme pools when addressed for delivery to any FSS 5-digit scheme combination per labeling list L006. Optionally, mailers may include nonmachinable Periodicals flats no more than 1-inch thick if they meet the standards in 705.14.

Mailers place qualifying mailpieces from all price categories into a separate pool for each individual 5-digit FSS-scheme combination. Mailings that include 10 or more pieces of Standard Mail flats, 6 or more pieces of Periodicals flats or 10 or more pieces (or 10 or more pounds) of Bound Printed Matter flats, to an FSS scheme must make FSS scheme bundles for that 5-digit FSS scheme. Mailers may optionally prepare scheme pools with less than 10 pieces of Standard Mail flats, 6 pieces of Periodical flats, or 10 pieces (or 10 pounds) of Bound Printed Matter flats, and may prepare an FSS scheme bundle if they have a minimum of 3 inches of mail. Mailings of Bound Printed Matter flats not meeting the eligibility standards for presort or carrier route pricing also may be included in FSS preparation, but are not eligible for presorted or carrier route prices. All pieces for each combined mailpiece pool must be placed in uniform bundles of between 3 inches and 6.5 inches, except for one overflow bundle that may be under the minimum height. Bundles must be prepared in accordance with the other conditions in DMM 705.14.0.

Bundles must be identified as 5-digit scheme presort, either with an optional endorsement line (OEL) under 708.7.0 or with a “red Label 5 SCH” barcoded pressure-sensitive bundle label. However, mailpieces entered under a combined mailing of Standard Mail and Periodicals flats will continue to require a unique OEL on each piece, as described in DMM exhibit 708.7.1.1. Mailers are reminded that every mailpiece prepared under these standards must still include class and price markings, as described in DMM 302.3.0, applicable to the price paid, in addition to the FSS bundle identification.

Pallets prepared to the FSS scheme level (previously termed “sort plan” level) all for the same 5-digit FSS-scheme ZIP Code combination continue to be required at 250 pounds, and optional below 250 pounds. However, FSS facility (all 5-digit FSS-scheme ZIP Code combinations processed within the same facility) pallets would be optional at any level. Pallets would be required to bear a pallet placard with an Intelligent Mail® container barcode. Mailers without the capacity to palletize could request an exception to these palletization requirements from the local plant manager.

Mailpieces that meet the current eligibility standards for basic carrier route prices would be included in FSS preparation requirements. Saturation price Standard Mail and Periodicals flats are not eligible for this preparation. Mailers may optionally include pieces eligible for high density and high density plus prices into FSS preparation, but their inclusion will not be required. The sequencing of mailpieces within bundles is not required or recommended when preparing FSS bundles. Only saturation, high density, and high density plus mailpieces (not prepared under FSS standards) are eligible for destination delivery unit (DDU) entry within FSS zones.

The Postal Service is adding a new destination FSS (DFSS) price for Standard Mail flats on FSS scheme pallets entered at the correct FSS facility. Initially, only FSS scheme pallets (or approved alternate containers) would be eligible for these destination-entry prices. DFSS entry piece pricing will be available for Standard Mail flats qualifying for carrier route and 5-digit piece prices.

Standard Mail flats properly included in an FSS scheme pool, but qualifying for 3-digit, ADC or mixed ADC prices, claim 3-digit prices. However, these pieces are not eligible for DFSS prices when placed on an FSS scheme pallet entered at a DFSS. These pieces are eligible for DSCF entry prices.

FSS preparation is optional for Periodicals flats mailed at In-County prices and Periodicals mailings of 5,000 pieces or less mailed at Outside-County prices. The 5-digit Outside-County bundle charge continues to be assessed on bundles of Outside-County Periodicals prepared in accordance with these standards, even though mailpieces being claimed at the carrier route piece price may be properly placed within these bundles. FSS scheme pallets will be assessed the Outside-County container charge for a 3-digit level pallet, and FSS facility sort level pallets will be charged a container price for an SCF pallet, except that there will be no container charge when FSS scheme pallets are entered at an FSS facility. The Outside-County price is the same as the DSCF price and the Inside-County pound price is the price for the “none” entry level. We strongly discourage unbound publications from being placed in FSS scheme bundles until the USPS further evaluates standards for automation compatibility.

Bound Printed Matter (BPM) flats prepared under these standards placed on FSS scheme pallets, sacks or trays, and entered at an FSS facility will be eligible for DSCF prices.

Changes for Letters, Flats, and Parcels

All Commercial Mail

To accommodate changes in facility functions, the Postal Service has been allowing destination sectional center (DSCF) facility pricing at some former SCFs. As advance notice, effective January 2015, to qualify for DSCF pricing, mailers would be required to enter mail at an actual SCF.

Periodicals

We have made a few editorial revisions to standards for Periodicals in DMM 707.4.0, 707.6.0, 707.7.0, 707.9.0, and 707.18.0 to simplify the text.

Tray and Sack Labels

We have revised standards for all tray labels to formalize what has been a practical restriction: That all tray labels be non-adhesive. This enables quicker turnaround of empty trays for customer use.

Changes for Parcels

New Live Animal Transportation Fee

The Postal Service is currently withdrawing the proposal to expand application of the live animal transportation fee.

New Minimum Volume Criteria for Manifested Parcels (MMS and eVS)

To provide customers with more flexibility to ship their packages using the Postal Service, we are reducing the minimum criteria of 200 pieces or 50 pounds, when paying postage by permit imprint, to 50 pieces or 50 pounds for manifest mailers using a manifest mailing system (MMS) and eVS® for any single-piece parcel mailings. The Postal Service will allow a combination of any domestic single-piece priced (nonpresorted) parcels to meet the new minimum criteria using one or more of the following: Priority Mail Express™ (PME), Priority Mail, First-Class Mail, First-Class Package Service®, Parcel Select® Nonpresort, nonpresorted Bound Printed Matter, and single-piece Media Mail® or Library Mail.

Extra Services and Other Services

Collect on Delivery (COD) Changes

The Postal Service removes the option for senders of nursery stock shipped Collect on Delivery (COD) to include special instructions for undeliverable shipments to be auctioned off to the highest bidder and the proceeds remitted to the sender. Effective July 28, 2013, the holding period for COD articles was reduced from 30 days to 10 days, resulting in the USPS being able to return the nursery stock in less time than we previously would hold it for delivery. Additionally, this option has not been commonly used and has been difficult to administer. Therefore, the special instructions for auctions are no longer needed.

The Postal Service also expands the standards for COD mail to allow Hold for Pickup service to be added when COD mail is sent as Priority Mail, First-Class Package Service, or Parcel Select Nonpresort.

Signature Handstamp Usage

The Postal Service clarifies the standards for use of an addressee's signature handstamp for Priority Mail Express or accountable mail items. Specifically, we clarify that the use of a handstamp is not exclusive to the Form 3849. Once approved by the Postmaster, a handstamp may be used for Priority Mail Express and other accountable mail, including a Return Receipt (Form 3811) purchased with the applicable extra service.

Although these revisions will not be published in the DMM until January 26, 2014, mailers may now begin using addressee's signature handstamps under the revised mailing standards.

Filing of Indemnity Claims

The Postal Service is continuing its efforts to simplify the claims process and reduce the adjudication period when customers file indemnity claims. In addition to further enhancements to our online claims system, the Postal Service is streamlining the filing periods and manual processes associated with claims processing for improved efficiency. The claims filing periods for indemnity claims will be 60 days from the date of mailing, and subsequently, the claims appeals timeline will be reduced from 60 days to 30 days from the date of the original decision.

Customers should file indemnity claims online or, when no internet access is available to the customer, claims may be filed by mail directly to the Postal Service Accounting Services Center. A toll-free number will be available to obtain Form 1000 for customers filing by mail. The local Post Office™ will no longer file the indemnity claims for customers, thus eliminating this extra time-consuming step.

DMM language is revised for payable claims for coins, and other collectibles to require a sales receipt, invoice or bill of sale, or statement of value from a reputable dealer, and for firearms to require a Form 1508 submission with the claim. Also, gift cards, most of which are replaceable through the issuer, are being added to those items under non-payable claims.

Return Receipt for Merchandise

As advance notice, the Postal Service plans to discontinue offering Return Receipt for Merchandise service in July 2014, because Signature Confirmation provides the same or equivalent service for a lower price.

2014 Promotions

The Postal Service will offer numerous mailing promotions in calendar year 2014, and will share the details of these promotions on the RIBBS® Web site soon.

List of Subjects in 39 CFR Part 111

Administrative practice and procedure, Postal Service.

For the reasons stated in the preamble, the Postal Service adopts the following changes to Mailing Standards of the United States Postal Service, Domestic Mail Manual (DMM), incorporated by reference in the Code of Federal Regulations. See 39 CFR 111.1. Accordingly, 39 CFR part 111 is amended as follows:

PART 111—[AMENDED]

1. The authority citation for 39 CFR part 111 continues to read as follows:

Authority: 5 U.S.C. 552(a); 13 U.S.C 301-307; 18 U.S.C. 1692-1737; 39 U.S.C. 101, 401, 403, 404, 414, 416, 3001-3011, 3201-3219, 3403-3406, 3621, 3622, 3626, 3632, 3633, and 5001.

2. Revise the following sections of Mailing Standards of the United States Postal Service, Domestic Mail Manual (DMM), as follows:

Mailing Standards of the United States Postal Service, Domestic Mail Manual (DMM)

100 Retail Mail

* * * * *

130 First-Class Mail

133 Prices and Eligibility

1.0 First-Class Mail Prices and Fees

1.1 First-Class Mail Single-Piece Price Application

See Notice 123—Price List. The single-piece prices for First-Class Mail are applied as follows:

[Revise items 1.1a and 1.1b as follows:]

a. The card price applies to a card meeting the standards in 101.6.3.

b. The letter price applies to letter-size pieces meeting the standards in 101.1.1 and weighing 3.5 ounces or less, and that are not eligible for the card price. There are separate prices for stamped letters and for letters with postage affixed (other than regular stamps) or imprinted by the mailer (Metered Mail price); see 134.1.1.

* * * * *

134 Postage Payment Methods

1.0 Postage Payment Methods for First-Class Mail

1.1 Payment Method

[Revise the text of 1.1 as follows:]

Postage for single-piece First-Class Mail must be paid with affixed postage stamps (604.1.0), postage evidencing system postage (604.4.0) or permit imprint (604.5.0). When mailers affix postage (other than regular stamps) or use permit imprint on letters, such pieces are eligible for the Metered Mail price.

* * * * *

200 Commercial Letters and Cards

* * * * *

230 First-Class Mail

233 Prices and Eligibility

1.0 Prices and Fees for First-Class Mail

* * * * *

1.2 Price Computation for First-Class Mail Letters

[Revise the text of 1.2 as follows:]

Commercial First-Class Mail Presorted letters are charged at one price for the first 2 ounces, with separate prices for pieces over 2 ounces up to 3 ounces and for pieces over 3 ounces up to 3.5 ounces. Any fraction of an ounce is considered a whole ounce. The pricing per ounce is similar for automation First-Class Mail letters, with pricing per sortation level. Single-piece price letters that are residual pieces from either a Presorted or automation mailing are charged the residual single-piece price for letters up to 2 ounces, when the mailing contains both 1-ounce and2-ounce pieces and the pieces are presented together, and the applicable Metered Mail prices (see 234.1.0) for all other residual pieces. See Notice 123—Price List.

* * * * *

2.0 Content Standards for First-Class Mail Letters

* * * * *

2.3 Personal Information

[Revise the text of 2.3 as follows:]

Mail containing personal information must be mailed as First-Class Mail (or Priority Mail Express or Priority Mail). Personal information is any information specific to the addressee.

* * * * *

234 Postage Payment and Documentation

1.0 Basic Standards for Postage Payment

1.1 Postage Payment Options

[Revise the text of 1.1 as follows:]

Postage for Presorted or automation First-Class Mail letters must be paid with affixed postage or permit imprint as specified in 2.0. Residual letters (from presorted or automation mailings) with such postage may be eligible for the Metered Mail price.

2.0 Postage Payment for Presorted and Automation Letters

2.1 Payment Methods

[Revise the text of 2.1 as follows:]

First-Class Mail presorted and automation postage must be paid with postage evidencing system indicia, permit imprints, or precanceled stamps. All pieces in a mailing must be paid with the same method unless otherwise permitted by standard or Business Mailer Support authorization. Permit imprints may be used for mailings of nonidentical-weight pieces only if authorized by Business Mailer Support.

* * * * *

235 Mail Preparation

* * * * *

5.0 Preparing Nonautomation Letters

5.1 Basic Standards

* * * * *

5.1.2 Single-Piece Price Pieces Presented With Presort Mailings

* * * The following standards apply:

[Revise the first two sentences of the introductory paragraph of item 5.1.2a as follows:]

a. The mailer must prepare the single-piece price pieces in separate trays from the automation and presort pieces. Mailers must label the trays under 708.6.0 using CIN code 260 on trays of single-piece letters. * * *

* * * * *

[Revise item 5.1.2.a2 as follows:]

2. Line 2: Use the human-readable content line corresponding to content identifier number 260 (see Exhibit 708.6.2.4).

* * * * *

240 Standard Mail

* * * * *

246 Enter and Deposit

* * * * *

2.0 Destination Entry

* * * * *

2.6 Deposit

* * * * *

2.6.7 Redirection at Mailer's Request

[Revise the text of 2.6.7 as follows:]

A mailer may ask to transport destination SCF price mail to a facility other than the designated SCF. In very limited circumstances, this exception may be approved only by the manager, Network Integration Support (see 608.8.0 for address). To qualify for the SCF price in this situation, mail deposited at a facility other than the SCF must destinate for processing within that facility and must not require backhauling to the SCF.

* * * * *

300 Commercial Flats

* * * * *

330 First-Class Mail

333 Prices and Eligibility

* * * * *

2.0 Content Standards for First-Class Mail Flats

* * * * *

2.3 Personal Information

[Revise the text of 2.3 as follows:]

Mail containing personal information must be mailed as First-Class Mail (or Priority Mail Express or Priority Mail). Personal information is any information specific to the addressee.

* * * * *

340 Standard Mail

343 Prices and Eligibility

* * * * *

5.0 Additional Eligibility Standards for Nonautomation Standard Mail Flats

5.1 Basic Standards

All pieces in a Regular Standard Mail or Nonprofit Standard Mail Presorted price mailing must:

* * * * *

[Revise 5.1d as follows:]

d. Be marked, sorted and documented as specified in 345 or 705.14.0.

* * * * *

5.3 5-Digit Prices for Flats

The 5-digit price applies to flat-size pieces:

[Revise 5.3a as follows:]

a. In a 5-digit/scheme bundle of 10 or more pieces, or 15 or more pieces, as applicable; properly placed in a 5-digit/scheme sack containing at least 125 pieces or 15 pounds of pieces; or 10 or more 5-digit pieces properly included in a FSS 5-digit scheme pool prepared under 705.14.

* * * * *

5.4 3-Digit Prices for Flats

The 3-digit price applies to flat-size pieces:

* * * * *

[Add new item 5.4c as follows:]

c. That are residual pieces not qualifying for carrier route or 5-digit prices, but properly included in a FSS 5-digit scheme pool prepared under 705.14.

* * * * *

6.0 Additional Eligibility Standards for Enhanced Carrier Route Standard Mail Flats

6.1 General Enhanced Carrier Route Standards

* * * * *

6.1.2 Basic Eligibility Standards

All pieces in an Enhanced Carrier Route or Nonprofit Enhanced Carrier Route Standard Mail mailing must:

* * * * *

[Revise item 6.1.2c as follows:]

c. Be sorted to carrier routes, marked, and documented under 345.6.0 or 705.8.0; or prepared under 705.14.0.

* * * * *

6.3 Basic Price Enhanced Carrier Route Standards

6.3.1 Sequencing

[Revise the text of 6.3.1 as follows:]

All pieces mailed at basic prices must be prepared in walk sequence or in line-of-travel (LOT) sequence according to LOT schemes prescribed by the USPS (see 345.6.9 and 345.6.10), except when prepared in FSS bundles under 705.14.

6.3.2 Basic Price Eligibility

Basic prices apply to each piece in a carrier route bundle of 10 or more pieces that is:

* * * * *

[Revise item 6.3.2a as follows:]

a. Palletized under 705.8.0, 705.10.0, 705.12.0, or 705.13.0.

* * * * *

[Add new item 6.3.2e as follows:]

e. Properly prepared to a FSS 5-digit scheme pool prepared under 705.14.

* * * * *

6.4 High Density and High-Density Plus (Enhanced Carrier Route) Standards

6.4.1 Basic Eligibility Standards for High Density and High-Density Plus Prices

All pieces mailed at high density prices must:

[Revise item 6.4.1a as follows:]

a. Be prepared in walk sequence according to schemes prescribed by the USPS (see 345.6.9), except when prepared in FSS bundles under 705.14.

[Revise the third sentence of item 6.4.1b as follows:]

b. * * * Multiple pieces per delivery address can count toward the density standards, except for pieces with simplified addresses as allowed under 602.3.0.

* * * * *

6.4.2 High Density and High Density Plus Prices for Flats

[Revise the introductory text of 6.4.2 as follows:]

High density or high density plus prices apply to each piece meeting the density standards in 6.4.1 and that is properly prepared in an FSS bundle under 705.14 or in a carrier route bundle of 10 or more pieces that is:

* * * * *

7.0 Additional Eligibility Standards for Automation Standard Mail Flats

7.1 Basic Eligibility Standards for Automation Standard Mail

All pieces in a Regular Standard Mail or Nonprofit Standard Mail automation mailing must:

* * * * *

[Revise 7.1f as follows:]

f. Be marked, sorted and documented under 345.7.0 and 705.8.0 through 705.13.0; or prepared under 705.14.0.

* * * * *

7.3 Price Application

Automation prices apply to each piece properly sorted into qualifying groups:

[Revise 7.3a and 7.3b as follows:]

a. The 5-digit price applies to flat-size pieces in a 5-digit/scheme bundle of 10 or more pieces, or 15 or more pieces, as applicable; or 10 or more 5-digit pieces properly prepared to a FSS 5-digit scheme pool under 705.14.

b. The 3-digit price applies to flat-size pieces in a 3-digit/scheme bundle of 10 or more pieces. It also applies to residual pieces not qualifying for carrier route or 5-digit prices but included in a FSS 5-digit scheme pool under 705.14.

* * * * *

345 Mail Preparation

1.0 General Information for Mail Preparation

* * * * *

[Add a new 1.6 as follows:]

1.6 FSS Preparation

Except for Standard Mail flats mailed at saturation, High Density or High-Density Plus prices, all Standard Mail flats destinating to FSS zones in accordance with labeling list L006 must be prepared under 705.14.0. Flats qualifying for High Density and High-Density Plus prices also may be included in FSS 5-digit scheme pools.

* * * * *

346 Enter and Deposit

* * * * *

2.0 Destination Entry

* * * * *

2.6 Deposit

* * * * *

2.6.7 Redirection at Mailer's Request

[Revise the text of 2.6.7 as follows:]

A mailer may ask to transport destination SCF price mail to a facility other than the designated SCF. In very limited circumstances, this exception may be approved only by the manager, Network Integration Support (see 608.8.0 for address). To qualify for the SCF price in this situation, mail deposited at a facility other than the SCF must destinate for processing within that facility and must not require backhauling to the SCF.

* * * * *

4.0 Destination Sectional Center Facility (DSCF) Entry

* * * * *

4.2 Eligibility

Pieces in a mailing that meets the standards in 2.0 and 4.0 are eligible for the DSCF price, as follows:

* * * * *

[Revise item 4.2c as follows:]

c. DSCF prices apply to residual pieces eligible for 3-digit prices that are properly placed on a FSS scheme pallet, and pieces from all eligible price categories properly placed in a FSS scheme sack or tray, when deposited at a USPS-designated FSS processing facility and labeled to a FSS scheme processed by that facility or to a 5-digit destination processed by that facility under labeling list L006. These pieces must include a full delivery address and meet the physical standards for FSS-machinability in 705.14.0.

[Delete item 4.2d in its entirety.]

* * * * *

[Renumber the current 5.0 as the new 6.0, and add a new 5.0 as follows:]

5.0 Destination Flat Sequencing System (DFSS) Facility Entry

5.1 Definition

Destination Flat Sequencing System Facility (DFSS) refers to the facilities listed in L006, Column C.

5.2 Eligibility

DFSS prices apply to pieces deposited at a USPS-designated FSS processing facility and correctly placed on a pallet labeled to a FSS scheme processed by that facility or to a 5-digit destination processed by that facility under labeling list L006. These pieces must include a full delivery address and meet the physical standards for FSS machinability in 705.14.0.

* * * * *

360 Bound Printed Matter

* * * * *

365 Mail Preparation

1.0 General Information for Mail Preparation

* * * * *

[Add a new 1.6 as follows:]

1.6 FSS Preparation

BPM flats claiming presort or carrier route prices, meeting the standards in 301.3.2 and destinating to FSS zones in accordance with labeling list L006, must be prepared under 705.14.0.

* * * * *

366 Enter and Deposit

* * * * *

3.0 Destination Entry

* * * * *

3.9 Deposit

* * * * *

3.9.7 Redirection at Mailer's Request

[Revise the text of 3.9.7 as follows:]

A mailer may ask to transport destination SCF price mail to a facility other than the designated SCF. In very limited circumstances, this exception may be approved only by the manager, Network Integration Support (see 608.8.0 for address). To qualify for the SCF price in this situation, mail deposited at a facility other than the SCF must destinate for processing within that facility and must not require backhauling to the SCF.

* * * * *

5.0 Destination Sectional Center Facility (DSCF) Entry

5.1 Eligibility

[Revise the introductory text of 5.1 as follows:]

Bound Printed Matter pieces in a mailing meeting the standards in 3.0 are eligible for the DSCF price when they meet all of the following additional conditions:

* * * * *

b. Are deposited at:

* * * * *

[Revise item 5.1b2 as follows:]

2. a USPS-designated FSS processing facility and correctly placed in a flat tray, sack, or on a pallet, labeled to a FSS scheme processed by that facility or to a 5-digit destination processed by that facility under labeling list L006. These pieces must include a full delivery address and meet the physical standards for FSS-machinability in 705.14.0.

* * * * *

400 Commercial Parcels

* * * * *

440 Standard Mail

* * * * *

446 Enter and Deposit

* * * * *

2.0 Destination Entry

* * * * *

2.6 Deposit

* * * * *

2.6.7 Redirection at Mailer's Request

[Revise the text of 2.6.7 as follows:]

A mailer may ask to transport destination SCF price mail to a facility other than the designated SCF. In very limited circumstances, this exception may be approved only by the manager, Network Integration Support (see 608.8.0 for address). To qualify for the SCF price in this situation, mail deposited at a facility other than the SCF must destinate for processing within that facility and must not require backhauling to the SCF.

* * * * *

460 Bound Printed Matter

* * * * *

466 Enter and Deposit

* * * * *

3.0 Destination Entry

* * * * *

3.9 Deposit

* * * * *

3.9.7 Redirection at Mailer's Request

[Revise the text of 3.9.7 as follows:]

A mailer may ask to transport destination SCF price mail to a facility other than the designated SCF. In very limited circumstances, this exception may be approved only by the manager, Network Integration Support (see 608.8.0 for address). To qualify for the SCF price in this situation, mail deposited at a facility other than the SCF must destinate for processing within that facility and must not require backhauling to the SCF.

* * * * *

500 Additional Mailing Services

503 Extra Services

1.0 Registered Mail

* * * * *

1.6 Inquiry on Uninsured Article

* * * * *

1.6.2 When and How To File

[Revise the current third sentence and add a new fourth sentence to 1.6.2 as follows:]

* * * File an inquiry for Registered Mail with no declared value by completing a Form 1000. See Publication 122 for additional information.

* * * * *

12.0 Collect on Delivery (COD)

* * * * *

12.2 Basic Information

12.2.1 Description

[Revise the text of 12.2.1 as follows:]

Any mailer may use collect on delivery (COD) service to mail an article for which the mailer has not been paid and have its price and the cost of the postage collected (not to exceed $1,000.00) from the addressee (or agent). COD service provides the mailer with a mailing receipt and the USPS maintains a record of delivery (including the recipient's signature) for two years. The recipient may pay the COD amount due for a mailpiece (with one form of payment) by cash, or a personal check or money order made payable to the mailer. The USPS forwards the check or money order to the mailer. The Postal Service cannot intervene in disputes between mailers and recipients of COD mail after payment was returned to the mailer. Customers may obtain a delivery record by purchasing a return receipt. Bulk proof of delivery service (6.0) is also available if purchasing electronic return receipt service at the time of mailing. A mailer must use a unique COD number for each article mailed.

12.2.2 Eligible Matter

[Revise the introductory text of 12.2.2 as follows:]

COD service may be used for Priority Mail Express (1-day and 2-day service only), Priority Mail (except Critical Mail), First-Class Mail, First-Class Package Service, Standard Post, and Package Services or Parcel Select (except Parcel Select Lightweight) mailpieces if:

* * * * *

12.2.3 Additional Services

[Revise the text of 12.2.3 as follows:]

COD service may be used with Hold For Pick Up service under 508.7.0, and may also be combined with the following services when the additional service fees are paid:

a. Restricted delivery.

b. Return receipt.

c. USPS Tracking (except with Priority Mail Express COD).

d. Registered Mail.

e. Signature Confirmation (except with Priority Mail Express COD).

f. Special handling.

12.2.4 Registered COD Mail

[Revise 12.2.4 by deleting the current last two sentences and inserting a new last sentence as follows:]

* * * The label and form must be affixed according to 12.4.1

12.2.5 Priority Mail Express COD

[Revise the text of 12.2.5 as follows:]

Any article sent COD also may be sent by Priority Mail Express when a delivery signature is requested. The maximum amount collectible from the addressee and the indemnity for an individual article is limited to $1,000.00. Priority Mail Express postage and the COD fees must be paid. The label and form must be affixed according to 12.4.1.

* * * * *

12.2.7 Redirecting COD Articles

[Revise the text of 12.2.7 as follows:]

The mailer of a COD article may use USPS Package Intercept service under 507.5.0 to redirect the article to a new addressee at a designated Post Office using Hold For Pickup service.

12.3 Forms

12.3.1 Form 3816

[Revise the text of 12.3.1 as follows:]

Mailers must complete barcoded Form 3816 (see Exhibit 12.3.1) or Form 3816-AS (see 12.3.2) and attach it above the delivery address and to the right of the return address, or to the left of the delivery address on parcels.

* * * * *

12.3.2 Privately Printed Form 3816-AS

[Revise the text of 12.3.2 as follows:]

If authorized, a mailer may use a privately printed Form 3816-AS in a 3-ply or 5-ply format. If Form 3816-AS does not provide detachable second and third copies, use Form 3877 under 12.4.4. The privately printed form must be nearly identical in text, design, and color to postal Form 3816, with a COD article number that can be read by automated postal equipment and an Intelligent Mail package barcode (IMpb) prepared under 708.5.0. As stated in Publication 199, available at http://ribbs.usps.gov/, mailers must provide pre-production barcoded COD labels to the National Customer Service Center (NCSC) for review and approval prior to use.

12.3.3 Nursery Stock

[Revise the complete text of 12.3.3 as follows:]

A firm that mails nursery stock may use Form 3816-AS (see 12.3.2) and include instructions for disposing of shipments not delivered immediately under the following conditions. The firm's instructions on the back of the delivery office part of the COD form (1), and on the remittance coupon (2), should read as follows:

a. “If recipient refuses to pay charges for any reason, deliver at once without collecting the charges. If parcel is not deliverable or not claimed by the addressee after 10 days, destroy parcel. See remittance coupon for further instructions.”

b. “Return this coupon with money order. If parcel is delivered without collection of charges, or is destroyed after 10 days, check disposition and send coupon to sender in penalty envelope.”

□ Delivered to addressee without collecting charges.

□ Destroyed after 10 days.

12.4 Mailing

12.4.1 Identifying Number

[Revise the text of 12.4.1 as follows:]

COD articles are identified by a number on each section of the COD form. When COD is used with Priority Mail Express, Registered Mail, Hold For Pickup service or, a separate barcoded shipping label, the mailer must place both the label and the COD form on the front of the article. The Priority Mail Express article number or the Registered Mail number is used for delivery receipt and indemnity claims. When a separate Hold For Pickup or barcoded shipping label is used, the identifying tracking numbers on the label and the COD form must match.

[Delete item 12.4.2, Numbering for Large Volumes, in its entirety (context of text relocated into 12.2.1), and renumber current items 12.4.3 through 12.4.8 as new items 12.4.2 through 12.4.7]

12.4.2 Completing COD Forms

[Revise the text of renumbered 12.4.2 as follows:]

The mailer must securely affix the COD form to each COD article. The form must show article number, names and addresses of mailer and recipient, amount due mailer, and amount of money order fee. This information must be handwritten with ink, typewritten, or computer-printed. The mailer may not stipulate “Cash Only” on the COD form. The USPS is not responsible for errors that a mailer makes in stating the charges to be collected.

12.4.3 Addressing Forms

[Revise the second sentence of renumbered 12.4.3 as follows:]

* * * The return address on the COD form must be the same as the return address on the COD article, except that a mailer using a Form 3816-AS may print a different address on the remittance coupon where payments are to be sent. * * *

12.4.4 Receipt

[Revise the text of renumbered 12.4.4 as follows:]

A mailer using Form 3816 receives a section of this form as a receipt. If three or more COD articles are presented for mailing at one time, the mailer may use Form 3877 (firm sheet) or privately printed firm sheets in conjunction with Form 3816. When a mailer uses a Form 3816-AS that does not provide detachable second and third copies, Form 3877 also must be used. Privately printed or computer-generated firm sheets that contain the same information as Form 3877 may be approved by the local Postmaster or manager, Business Mail Entry. Mailers may omit columns from Form 3877 that do not apply to COD mail. The mailer must submit firm sheets in duplicate and will receive one copy of the postmarked form as a mailing receipt (in lieu of Copy 3 of Form 3816 or Form 3816-AS) after the entries are verified by a postal employee. The acceptance Post Office retains the second copy. All entries on Form 3877 or privately-printed firm sheets must be made by typewriter, printed in ink, or computer-generated. Alterations must be initialed by the mailer and accepting employee. All unused portions of the addressee column must be obliterated with a diagonal line.

* * * * *

12.5 Delivery

[Revise the text of 12.5 as follows:]

Delivery of COD mail is subject to 508.1.0 and 508.2.0. Except for Priority Mail Express COD, a Postmaster may restrict delivery of COD mail if the amount to be collected makes the carrier a potential target for theft or if it is known that the addressee will be unavailable to receive the article. If payment is by check or a money order made payable to the mailer, the recipient must present adequate identification. If payment is made by cash, a money order fee is collected from the recipient in addition to the COD amount.

* * * * *

505 Return Services

* * * * *

2.0 Permit Reply Mail

2.1 General Information

* * * * *

2.1.5 Special Standards for PRM Pieces With an Optical Disc

[Revise the second sentence of 2.1.5 as follows:]

* * *. A flat-size PRM piece containing one standard optical disc and weighing no more than 2 ounces will be charged postage applicable for a 1-ounce First-Class Mail letter if the piece meets the standards in 333.2.7.

* * * * *

507 Mailer Services

1.0 Treatment of Mail

* * * * *

1.5 Treatment for Ancillary Services by Class of Mail

* * * * *

1.5.3 Standard Mail and Parcel Select Lightweight

* * * * *

Exhibit 1.5.3, Treatment of Undeliverable Standard Mail and Parcel Select Lightweight

MAILER ENDORSEMENT USPS TREATMENT OF UAA PIECES

* * * * *

[In the “MAILER ENDORSEMENT” column, change the footnote appended to “Forwarding Service Requested” from the current “2” to footnote “3.”]

* * * * *

[In the MAILER ENDORSEMENT” column, change the footnotes appended to the first listing of “Change Service Requested” from the current “1, 3” to “1, 4.”]

* * * * *

[At the bottom of the table, redesignate current footnotes 2 and 3 as new 3 and 4, respectively, and add new footnote 2 (restored from its intended place where it was as of 1-27-2013) to read as follows:]

1. The weighted (per piece) fee is the First-Class Mail or Priority Mail single-piece price and any nonmachinable surcharge (see 133.1.0), multiplied by 2.472; rounding any fractions to the next whole cent.

* * * * *

1.8 Returning Mail

* * * * *

1.8.5 Extra Services

[Revise 1.8.5 by revising the third and fourth sentences and adding a new fifth sentence as follows:]

* * * The sender must sign a delivery receipt for returned Priority Mail Express, Registered Mail, COD articles, Adult Signature services, and mail insured for more than $200. Returned Priority Mail Express (when waiver of signature is requested by the sender), Certified Mail, and mail with Signature Confirmation or return receipt for merchandise service may be returned to the sender without obtaining a signature when those mailpieces are returned as undeliverable.

* * * * *

4.0 Address Correction Services

* * * * *

4.3 Sender Instructions

* * * * *

4.3.2 Extra Services

[Revise the complete text of 4.3.2 as follows:]

A change-of-address order to a domestic address covers Certified Mail, COD, insured, Registered Mail, Signature Confirmation, Adult Signature services, and return receipt for merchandise mail unless the sender gives other instructions.

This mail is treated as follows:

a. COD mail is not forwarded to overseas military Post Offices.

b. Ordinary and insured parcels marked with the mailer's instructions are treated following instructions, such as: “Do not forward or return. If not accepted within __ days, treat as abandoned. Notify mailer of disposition.”

c. COD mail will be handled as requested when marked under 503.12.

* * * * *

508 Recipient Services

1.0 Recipient Options

1.1 Basic Recipient Concerns

* * * * *

1.1.7 Priority Mail Express and Accountable Mail

[Revise the introductory text of 1.1.7 as follows:]

The following conditions also apply to the delivery of Priority Mail Express and other accountable mail (Registered Mail, Certified Mail, insured for more than $200.00, COD, or Adult Signature services as well as mail with return receipt service, return receipt for merchandise service, or restricted delivery service:

[Revise item 1.1.7a as follows:]

a. The addressee (or representative) may obtain the sender's name and address while held by the USPS employee before accepting delivery and endorsing the delivery receipt.

* * * * *

[Revise item 1.1.7c as follows:]

c. Suitable identification may be required of the recipient before delivery of the mailpiece.

* * * * *

[Revise item 1.1.7e as follows:]

e. USPS responsibility ends when the mailpiece is delivered to the addressee (or another party, subject to 1.0).

* * * * *

[Revise all of item 1.1.7g as follows:]

g. A hand stamp approved by the Postmaster may be used by the addressee (or authorized agent) to provide the signature and name of the individual or organization receiving the mailpiece as follows:

1. The hand stamp imprint must fit within the Signature and Printed Name blocks on Form 3849, without overlapping into other sections.

2. To obtain approval for a hand stamp, the company must submit a written statement to the postmaster that the person whose name appears on the stamp is authorized to accept accountable mail, accompanied by a sample of the authorized employee's signature. After approval, the documentation is held by the postmaster and the stamped signature and name are acceptable only if a legible impression is provided within the Signature and Printed Name blocks on Form 3849.

3. For mail addressed only to a federal or state official, the stamp need show only the name and location of the accepting organization. In these cases, the stamp imprint must fit within the Printed Name and Delivery Address block of Form 3849 without overlapping into other sections.

* * * * *

7.0 Hold For Pickup

* * * * *

7.2 Basic Information

7.2.1 Description

[Revise the text of 7.2.1 as follows:]

Hold For Pickup service allows mailpieces to be held at a designated Post Office for pickup by an addressee. When the mailer has provided contact information to the destination Post Office, the customer is notified by email that a package is available for pickup. This service provides the shipper with the date and time of delivery to the addressee. If the item has not been picked up within 5 days, the Post Office makes a second notification attempt and returns the item to the sender if not picked up within 15 days.

7.2.2 Basic Eligibility

[Revise the complete text of 7.2.2 as follows:]

Hold For Pickup service is available with Priority Mail Express. It is also available with commercial mailings of Priority Mail (except Critical Mail), First-Class Package Service parcels, and Parcel Select Nonpresort parcels when:

a. Mailpieces bear the Hold For Pickup label with an Intelligent Mail package barcode under 708.5.0.

b. One of the extra services in 7.2.6 is combined with Hold For Pickup service.

* * * * *

7.2.6 Extra Services

[Revise the introductory text of 7.2.6 as follows:]

Hold For Pickup service, except when used with Priority Mail Express, must be combined with one or more of the following:

* * * * *

[Add new item 7.2.6e as follows:]

e. Collect on Delivery (COD).

7.3 Preparation Definitions and Instructions

Except for Priority Mail Express Hold For Pickup presented at retail Post Office locations, mailers must prepare mailpieces bearing the “Hold For Pickup” label as follows:

[Delete current item 7.3a in its entirety, and redesignate current items b through d as new items a through c; additionally revise redesignated item 7.3a as follows:]

a. Exchange electronic files with USPS through an approved file transfer protocol to notify the addressee when a parcel is available for pickup or to notify the mailer that items are available to be picked up as “return to sender.”

* * * * *

c. In addition to the markings defined in 7.0, address labels on a Hold For Pickup mailpiece must contain the elements below:

* * * * *

[Revise redesignated 7.3c7 as follows:]

7. The lower half of the address label must contain a correct Intelligent Mail package barcode under 708.5.0 or an integrated barcode as defined in Publication 199.

[Insert new item 7.3c8 as follows:]

8. If combined with COD service, other information as required in 503.12.

* * * * *

600 Basic Standards for All Mailing Services

* * * * *

602 Addressing

1.0 Elements of Addressing

* * * * *

1.5 Return Addresses

* * * * *

[Renumber current 1.5.4 as new 1.5.5; add new 1.5.4 to read as follows:]

1.5.4 Use of Foreign Return Addresses

Regardless of destination, when U.S. postage is applied to a mailpiece, only a domestic return address is authorized, except when the addressee's permanent residence is outside the United States or its territories (e.g., a tourist who lives abroad and is shipping an item home from the United States). This exception is applicable for only incidental non-commercial use for single-piece price mailpieces.

* * * * *

4.0 Detached Address Labels (DALs) and Detached Marketing Labels (DMLs)

4.1 DAL and DML Use

* * * * *

4.1.2 Periodicals or Standard Mail Flats Saturation Mailings

[Revise the text of 4.1.2 as follows:]

Saturation mailings of only unaddressed Periodicals or Standard Mail flats may be mailed with detached address labels (DALs), but DALs may not bear simplified addresses when used with Standard Mail flats. For this standard, saturation mailing means a mailing sent to at least 75% of the total addresses on a carrier route or 90% of the residential addresses on a route, whichever is less. Saturation flats presented with DALs that are not automation-compatible and correctly barcoded do not qualify for saturation prices. Instead they may be entered at applicable basic carrier route prices. This standard (for automation-compatible barcoded DALs) does not apply to DALs with simplified addressing when correctly used with Periodicals flats.

* * * * *

4.2 Label Preparation

* * * * *

4.2.2 Addressing

[Revise the text of 4.2.2 as follows:]

The address for each item must be placed on a DAL, parallel to the longest dimension of the DAL, and may not appear on the item it accompanies. The DAL must contain the delivery address and a return address. In addition, if DALs accompany saturation mailings of Periodicals or Standard Mail flats, a correct Intelligent Mail barcode with an 11-digit routing code must be printed on each DAL except when using a simplified address for Periodicals flats as allowed by standards.

* * * * *

4.5 Postage

* * * * *

4.5.2 Postage Computation and Payment

* * * In addition, these methods of postage payment apply:

* * * * *

[Revise item 4.5.2b as follows:]

b. Standard Mail flats (except EDDM flats) and parcels and Bound Printed Matter pieces must be paid by permit imprint, which must appear on each DAL.

* * * * *

604 Postage Payment Methods

* * * * *

5.0 Permit Imprint (Indicia)

5.1 General Standards

* * * * *

5.1.2 Minimum Volume

Permit imprint mailings must contain at least 200 pieces or 50 pounds of mail, except:

* * * * *

[Add new item 5.1.2g as follows:]

g. A mailing containing 50 pieces or 50 pounds of nonpresorted single-piece domestic mail parcels submitted under the terms of an approved Manifest Mailing System (including eVS) agreement under 705.2.0. Mailers may include any combination of the following products under this provision: Priority Mail Express (eVS only), Priority Mail, First-Class Package Service parcels, First-Class Mail parcels, nonpresorted Bound Printed Matter parcels, Parcel Select Nonpresort parcels, and single-piece Media Mail and Library Mail parcels. Parcels in USPS-provided packaging, including Flat Rate Envelopes and Boxes, may be included.*

* * * * *

608 Postal Information and Resources

* * * * *

8.0 USPS Contact Information

8.1 Postal Service

* * * * *

[Add a new listing in alphabetical order as follows:]

Network Integration Support, 475 L'Enfant Plz SW., Rm 7536, Washington DC 20260-2806

* * * * *

609 Filing Indemnity Claims for Loss or Damage

1.0 General Filing Instructions

1.1 Extra Services With Indemnity

[Revise the text of 1.1 as follows:]

A customer may file an indemnity claim for insured mail, COD items, Registered Mail with postal insurance, or Priority Mail Express. See Publication 122, available on www.usps.com, for additional information.

* * * * *

1.4 When To File

File claims as follows:

* * * * *

[Revise the chart in 1.4 as follows:]

Mail type or service | When to file (from mailing date): No sooner than | When to file (from mailing date): No later than
Priority Mail Express | 7 days | 60 days.
Priority Mail Express COD | 15 days | 60 days.
Registered Mail | 15 days | 60 days.
Registered Mail COD | 15 days | 60 days.
Insured Mail (including Priority Mail under 3.2) | 15 days | 60 days.
COD | 15 days | 60 days.
APO/FPO Priority Mail, Express Military Service | 21 days | 180 days.
APO/FPO/DPO Insured Mail and Registered Mail (Priority Mail, First-Class Mail, SAM, or PAL) | 45 days | 1 year.
APO/FPO/DPO Insured Mail (Surface only) | 75 days | 1 year.

[Delete item 1.5, Where to File, in its entirely and renumber current 1.6 and 1.7 as new item 1.5 and 1.6, then revise the title of renumbered 1.5 as follows:]

1.5 Where and How To File

1.5.1 Claims Filed Online

[Revise the first and second sentences of renumbered 1.5.1 as follows:]

Domestic indemnity claims should be filed online (preferred) at www.usps.com/domestic-claims for domestic insured mail, COD, Registered Mail with postal insurance, and Priority Mail Express. Proof of value is required and should be submitted online as an uploaded file (.pdf or .jpeg). * * *

1.5.2 Claims Filed by Mail

[Revise the text of renumbered 1.5.2 as follows:]

Customers may file a claim by completing a Form 1000 and mailing it to the address indicated on the form, accompanied by proof of value. Obtain Form 1000 by calling 1-800-332-0317, option 9. For pieces with multiple extra services, the customer must provide original receipts for all services purchased. Upon request by the USPS, the customer must submit proof of damage under 2.0 for damaged items or missing contents.

[Delete renumbered 1.5.3, Claims Filed at the Post Office and current 1.7, Filing Duplicate Claims, in their entirety.]

2.0 Providing Proof of Loss or Damage

[Delete the title of current 2.1, and revise the text of current 2.1 as new 2.0 as follows:]

If a claim is filed because some or all of the contents are missing or damaged, the addressee must retain the mailing container, including any damaged articles, all packaging, and any contents received. Upon written request by the USPS, the addressee must make this proof available to the local Post Office for inspection, retention, and disposition in accordance with the claims decision. Failure to do so will result in denial of the claim.

[Delete current 2.2, Proof of Damage, in its entirety.]

3.0 Providing Evidence of Insurance and Value

3.1 Evidence of Insurance

[Revise the complete text of 3.1 as follows:]

For a claim involving articles listed in 1.1, the customer must retain evidence showing that the specific USPS service was purchased, until the claim is resolved. Examples of acceptable evidence are:

a. The original mailing receipt issued at the time of mailing (retail insured mail, Registered Mail, and COD receipts must contain a USPS postmark). For insured mail, a photocopy of the original mailing receipt is acceptable.

b. The outer packaging showing the names and addresses of the sender and the addressee and the proper label showing that the article was sent insured, COD, Registered Mail with postal insurance, or Priority Mail Express. (If only the outer packaging is submitted, indemnity can be limited to $100 for insured, $50 for COD, $100 for Registered Mail, and $100 for Priority Mail Express.)

c. For Priority Mail Express items accepted under a Priority Mail Express Manifesting agreement in 705.2.0, a copy of the manifest page showing the Priority Mail Express label number for the item; the manifest summary page for the mailing date of the piece; a copy of Form 3152-E round-dated by the accepting Post Office; and a copy of the USPSCA monthly statement that lists the label number and postage for the mailpiece. If the customer purchased additional insurance, a copy of the round-stamped Form 3877 also must be submitted.

d. For insurance purchased online, a printed electronic online label record or a computer printout from the application used to print the label and purchase the insurance. The printout must identify the USPS Tracking number of the insured parcel, total postage paid, insurance fee paid, declared value, mailing date, origin ZIP Code, and delivery ZIP Code.

e. For insured mail or COD mail paid using MMS or eVS under 705.2, the mailer must use one of the following:

1. A Detail Record in their Shipping Services file version 1.6 or higher, with recipient name and address information for the accountable extra services pieces in the mailing.

2. A printout of the part of Form 3877 that identifies the parcel by article number, the package identification code (PIC) of the insured or COD parcel, total postage paid, fee paid, declared insured value, amount due sender if COD, mailing date, origin ZIP Code, and delivery ZIP Code reported in the parcel record in the manifest file.

[Revise the title and introductory text of 3.2 as follows:]

3.2 Proof of Value

Either the mailer or the addressee must submit acceptable proof to establish the cost or value of the article at the time it was mailed. Proof of value should be submitted electronically or attached to the claim form under 1.6; otherwise, the claim cannot be processed. Other proof may be requested to help determine an accurate value. Examples are:

* * * * *

[Revise item 3.2b as follows:]

b. For items valued up to $50, the customer's statement describing the lost or damaged article and including the date and place of purchase, the amount paid, and whether the item was new or used (if a receipt or invoice is not available).

* * * * *

[Revise item 3.2g as follows:]

g. A copy of a credit card statement or other documentation indicating the amount paid.

* * * * *

4.0 Claims

4.1 Payable Claim

[Revise the introductory sentence of 4.1 as follows:]

Insurance for loss or damage to insured, COD, or Registered Mail within the amount covered by the fee paid or the indemnity limits for Priority Mail Express (under 4.2) is payable for the following:

* * * * *

[Revise item 4.1g as follows:]

g. For stamps and coins of philatelic or numismatic value; the fair market value is determined by a recognized stamp or coin dealer or current coin and stamp collectors' newsletters and trade papers. The date of the fair market value determination must be current and prior to the mailing date.

* * * * *

[Insert new items 4.1p and 4.1q as follows:]

p. For firearms mailed by licensed firearm dealers under 601.12, a Form 1508 must be submitted with the claim.

q. For collectible items, a sales receipt, invoice or bill of sale, or statement of value from a reputable dealer must be provided as described in 3.2.a.

4.2 Payable Priority Mail Express Claim

[Revise the introductory text of 4.2 and the introductory text of item 4.2a as follows:]

In addition to the payable claims in 4.1, the following are payable for Priority Mail Express mailpieces:

a. Nonnegotiable documents are insured against loss, damage, or loss of some contents while in transit. Coverage is limited to $100 per mailpiece, subject to a maximum limit per occurrence as provided in 4.2a4. Claims for document reconstruction insurance must be supported by a statement of expense incurred in reconstruction. Nonnegotiable documents include audit and business records, commercial papers, and other written instruments that cannot be negotiable or cannot be converted into cash without forgery. Articles such as artwork, collector or antique items, books, pamphlets, readers' proofs, repro proofs, separation negatives, engineering drawings, blueprints, circulars, advertisements, film, negatives, and photographs are considered merchandise, not documents. Indemnity for document reconstruction is paid as follows:

* * * * *

4.3 Nonpayable Claims

Indemnity is not paid for insured mail, Registered Mail, COD, or Priority Mail Express in these situations:

* * * * *

[Revise item 4.3f as follows:]

f. Loss resulting from delay of the mail, except under 4.2a2 and 4.3ad below.

* * * * *

[Revise item 4.3k as follows:]

k. Death of honeybees, crickets, and harmless live animals not the fault of the USPS (mailability is subject to 601.9.0).

* * * * *

[Revise item 4.3r as follows:]

r. Consequential loss of Priority Mail Express, except under 4.2a3 and 4.3ad.

* * * * *

[Revise item 4.3aa as follows:]

aa. Lottery tickets, sweepstakes tickets, contest entries, gift cards and similar items.

* * * * *

6.0 Adjudication of Claims

* * * * *

6.2 Appealing a Claim Decision

[Revise the text of 6.2 as follows:]

A customer may appeal a claim decision within 30 days from the date of the original decision at www.usps.com/insuranceclaims/online. Customers who did not file their claim online must send written appeals to Accounting Services (see 608.8.0 for address).

6.3 Final USPS Decision of Claims

[Revise the text of 6.3 as follows:]

If Accounting Services sustains the denial of a claim, the customer may submit an additional appeal within 30 days for final review and decision to the Consumer Advocate (see 608.8.0 for address).

* * * * *

700 Special Standards

* * * * *

705 Advanced Preparation and Special Postage Payment Systems

* * * * *

8.0 Preparing Pallets

* * * * *

8.5 General Preparation

* * * * *

8.5.6 Mail on Pallets

These standards apply to mail on pallets:

* * * * *

[Revise item 8.5.6h as follows:]

h. Heavier, fuller trays must be placed at the bottom of the load, unless excepted by other standards (such as 245.7.7) that may require placement on the top of the pallet.

* * * * *

14.0 Combining Bundles of Flats on Pallets Within FSS Zones

14.1 General

[Revise the introductory paragraph of 14.1 as follows:]

Presorted and basic carrier route Standard Mail flats, and all Bound Printed Matter (BPM) presorted and carrier route flats and Periodicals flats meeting the standards in 301.3.2, must be consolidated into 5-digit FSS scheme bundles and placed on pallets, in sacks, or in approved alternate containers, for 5-digit FSS scheme ZIP Code combinations within the same facility. Mailings that include 10 or more pieces of Standard Mail flats, 6 or more pieces of Periodicals flats or 10 or more pieces (or 10 or more pounds) of BPM flats to a FSS scheme, must be prepared in FSS scheme bundles for that 5-digit FSS scheme. Mailers may optionally prepare scheme pools with less than those minimums and may prepare an FSS scheme bundle if there is a minimum of 3 inches per bundle. Mailings of nonpresorted BPM flats may be included in FSS preparation, but will not be eligible for presorted or carrier route prices. The Postal Service also recommends the use of flat trays in lieu of sacks for FSS bundles. Bundles of flats prepared to FSS zones also may be combined with bundles of flats not intended for FSS processing when prepared to less finely presorted containers in accordance with these standards and the standards in 8.0. Mailers must place qualifying mailpieces from all price categories into a separate combined pool for each individual 5-digit FSS-scheme combination, and then prepare bundles of uniform size from those pieces. Mailpieces that meet the eligibility standards for 5-digit prices, basic and high density carrier route prices, or BPM presort or carrier route prices will continue to be eligible for these prices when prepared in accordance with the FSS preparation standards. Saturation price Standard Mail and Periodicals flats are not eligible for preparation under this option. High Density and High-Density Plus Standard Mail flats that meet the physical requirements in 301.3 may be included when prepared in accordance with these standards. Mailpieces and bundles must also be prepared as follows:

[Revise 14.1a and b as follows:]

a. Bundles for all FSS schemes must be identified as a 5-digit scheme presort with an optional endorsement line under 708.7.0; or when authorized, using a red Label 5 SCH barcoded pressure-sensitive bundle label.

b. It is recommended that all Standard Mail and Periodicals pieces placed into an FSS pool be barcoded, and bear an accurate delivery point Intelligent Mail barcode with an accurate 11-digit routing code.

* * * * *

[Revise 14.1j as follows:]

j. An FSS scheme pallet, or approved alternate container, must be made when 250 pounds or more of bundles are available for an individual FSS 5-digit scheme. Bundles remaining after palletization may be placed in sacks (or flat trays if approved).

* * * * *

14.2 Periodicals

14.2.1 Basic Standards

[Revise the introductory paragraph of 14.2.1 as follows:]

Except for Periodicals flats mailed at In-County prices, Periodicals flats mailings of 5,000 pieces or less mailed at Outside-County prices, or otherwise excepted Periodicals flats mailings, all Periodicals flats meeting the standards in 301.3.2 (nonmachinable flats up to 1-inch thick may be included if they meet the standards in 705.14) and destinating to FSS zones as shown in L006, must be prepared according to these standards. Mailings of In-County Periodicals flats and Outside-County Periodicals flats mailings of 5,000 pieces or less also may be prepared according to these standards. Periodicals are subject to the following:

* * * * *

[Revise 14.2.1a and 14.2.1b as follows:]

a. Pricing eligibility is based on 707.11.0 through 707.14.0, except that the 5-digit Outside-County bundle charge will be assessed to bundles of Outside-County Periodicals prepared in accordance with these standards, including bundles of flats claimed at the carrier route piece price. All Periodicals flats prepared under these standards will be assessed the 3-digit bundle price without regard to the piece prices claimed. FSS bundles placed on FSS scheme or FSS facility pallets, sacks or trays will claim the 3-digit bundle price.

b. FSS 5-digit scheme pallets will be assessed the Outside-County container charge for the 3-digit level pallet, except that there is no container charge for FSS 5-digit scheme pallets entered at a DFSS facility. FSS facility sort level pallets will be charged a container price for the SCF pallet. FSS scheme sacks or trays will continue to be assessed the 3-digit price. Sacks and trays entered at a DFSS will claim the DSCF entry price.

[Redesignate current 14.2.1c through f as new 14.2.1d through g, and add new item 14.2.1c to read as follows:]

c. The Outside-County pound price will be the same as the DSCF price. The Inside-County price will claim prices for the “none” entry level.

* * * * *

[Revise redesignated items 14.2.1e, f and g as follows:]

e. Mailers must combine all 5-digit, carrier route, and 5-digit scheme eligible flat-size mailpieces into a combined mailpiece pool for each FSS 5-digit scheme combination according to L006.

f. Each bundle must be identified with a “SCH 5-DIGIT FSS” optional endorsement line in accordance with Exhibit 708.7.1.1; or when authorized, using a red Label 5 SCH barcoded pressure-sensitive bundle label.

g. All pooled Periodicals mailpieces prepared on pallets to a single presort destination must be prepared in uniform size bundles, between 3 inches and 6.5 inches in height and secured under 601.2.0, except that one overflow bundle per mailpiece pool may be under the minimum size.

* * * * *

14.2.2 Pallet Preparation and Labeling

* * * Preparation sequence and labeling:

[Revise the introductory text of 14.2.2a as follows:]

a. FSS scheme, required (optional under 250 pounds), no minimum, permitted only for FSS bundles prepared for a single FSS scheme, as shown in L006. Labeling:

* * * * *

[Revise the introductory text of 14.2.2b as follows:]

b. FSS facility sort, optional, no minimum, permitted only for FSS bundles prepared for the FSS sort plans processed within the same facility, as shown in L006. Labeling:

* * * * *

14.2.3 Sack Preparation and Labeling

* * * Preparation and labeling:

[Revise the introductory text of 14.2.3a as follows:]

a. FSS scheme, required, permitted only for 5-digit FSS scheme bundles prepared for a single FSS scheme, as shown in L006; labeling:

* * * * *

[Revise the introductory text of 14.2.3b as follows:]

b. FSS facility sort, optional, permitted only for FSS bundles prepared for the FSS sort plans processed within the same facility, as shown in L006; labeling:

* * * * *

14.3 Standard Mail

14.3.1 Basic Standards

* * * Standard Mail flats are subject to the following:

* * * * *

[Revise 14.3.1c and d as follows:]

c. Mailers must combine all 5-digit, basic carrier route, and 5-digit scheme eligible flat-size mailpieces into a combined mailpiece pool for each FSS 5-digit scheme combination according to L006.

d. Each bundle must be identified with a “SCH 5-DIGIT FSS” optional endorsement line in accordance with Exhibit 708.7.1.1; or when authorized, using a red Label 5 SCH barcoded pressure-sensitive bundle label.

* * * * *

14.3.2 Pallet Preparation and Labeling

* * * Preparation sequence and labeling:

[Revise the introductory text of 14.3.2a as follows:]

a. FSS scheme, required (optional under 250 pounds), no minimum, permitted only for FSS bundles prepared for a single FSS scheme, as shown in L006. Labeling:

* * * * *

[Revise the introductory text of 14.3.2b as follows:]

b. FSS facility sort, optional, no minimum, permitted only for FSS bundles prepared for the FSS scheme processed within the same facility, as shown in L006. Labeling:

* * * * *

14.3.3 Sack Preparation and Labeling

* * * Preparation and labeling:

[Revise the introductory text of 14.3.3a as follows:]

a. FSS scheme, required, permitted only for 5-digit FSS scheme bundles prepared for a single FSS scheme, as shown in L006; labeling:

* * * * *

[Revise the introductory text of 14.3.3b as follows:]

b. FSS facility sort, optional, permitted only for 5-digit FSS bundles prepared for the FSS schemes processed within the same facility, as shown in L006; labeling:

* * * * *

14.4 Bound Printed Matter

14.4.1 Basic Standards

[Revise the introductory text of 14.4.1 as follows:]

Bound Printed Matter (BPM) flats eligible for, and paid at, presorted prices or carrier route prices, and that meet the standards in 301.3.2, must be combined in 5-digit FSS scheme bundles and placed on pallets, or in flat trays, sacks or approved alternate containers, for delivery to ZIP Codes having FSS processing capability, as shown in L006. BPM flats are subject to the following:

* * * * *

[Revise 14.4.1c and d as follows:]

c. Mailers must combine all eligible flat-size mailpieces into a combined mailpiece pool for each FSS 5-digit scheme combination according to L006.

d. Each bundle must be identified with a “SCH 5-DIGIT FSS” optional endorsement line in accordance with Exhibit 708.7.1.1; or when authorized, using a red Label 5 SCH barcoded pressure-sensitive bundle label.

* * * * *

14.4.2 Pallet Preparation and Labeling

* * * Preparation sequence and labeling:

[Revise the introductory text of 14.4.2a as follows:]

a. FSS scheme, required (optional under 250 pounds), no minimum, permitted only for FSS bundles prepared for a single FSS scheme, as shown in L006. Labeling:

* * * * *

[Revise the introductory text of 14.4.2b as follows:]

b. FSS facility sort, optional, no minimum; permitted only for FSS bundles prepared for the FSS schemes processed within the same facility, as shown in L006. Labeling:

* * * * *

14.4.3 Sack Preparation and Labeling

* * * Preparation and labeling:

[Revise the introductory text of 14.4.3a as follows:]

a. FSS scheme, required, permitted only for 5-digit FSS scheme bundles prepared for a single FSS scheme, as shown in L006; labeling:

* * * * *

[Revise the introductory text of 14.4.3b as follows:]

b. FSS facility sort, optional, permitted only for FSS bundles prepared for the FSS schemes processed within the same facility, as shown in L006; labeling:

* * * * *

15.0 Combining Standard Mail Flats and Periodicals Flats

15.1 Basic Standards

* * * * *

[Revise the title and introductory text of 15.1.11 as follows:]

15.1.11 Preparation for FSS Zones

Mailers authorized to combine mailings of Standard Mail flats and Periodicals flats must prepare these mailings under 14.0, when the mailing includes pieces destinating within one or more of the FSS zones in L006. Mailpieces eligible for High Density and High-Density Plus prices are not required to, but may be, prepared under the standards in 14.0. The following applies:

[Delete current items 15.1.11a through c in their entirety and resequence current items 15.11.1d through f as new items 15.11.1a through 1c.]

* * * * *

707 Periodicals

* * * * *

4.0 Basic Eligibility Standards

* * * * *

4.9 Issues

4.9.1 Regular Issues

[Revise the text of 4.9.1 as follows:]

Regular issues must be published according to the publication's stated frequency. Issues may include annual reports, directories, buyers' guides, lists, and similar material if these issues bear the publication title and are included in the regular subscription price, if any.

* * * * *

[Delete 4.9.3, Content, in its entirety (text moved into 4.9.1).]

[Renumber current 4.9.4 and 4.9.5 as new 4.9.3 and 4.9.4.]

* * * * *

6.0 Qualification Categories

6.1 General Publication

* * * * *

6.1.2 Circulation Standards

General publications must meet these circulation standards:

* * * * *

[Revise items 6.12b through 6.1.2g as follows:]

b. Records for subscriptions to a publication must be kept so that subscriptions to each publication can be verified.

c. Persons whose subscriptions are obtained at a nominal price and those whose copies bear an alternative address must not be included in the legitimate list of subscribers. Such copies must be treated as nonsubscriber copies.

d. Subscriptions may be paid for with dues or contributions, if the amount paid for the subscription is stated. The USPS may require evidence of compliance; see 5.1.2 for more information.

e. A subscription must be separated from all other business transactions to be evident as an independent act. Publishers must be able to show that subscriptions are voluntary and that the subscription price is paid or promised.

f. At least 50% of a publication's distribution must be to persons who have paid above a nominal price. (For inclusion of electronic copies, see 6.5). Nominal price subscriptions include those sold at a price so low that it cannot be considered a material consideration; or at a reduction to the subscriber (under a premium offer or any other arrangement) of more than 70% of the basic annual subscription price. The value of a premium is its actual cost to the publisher, its recognized retail value, or its represented value, whichever is highest.

g. Publications primarily designed for free circulation or for circulation at nominal prices do not qualify for the general publications category.

[Delete items 6.1.2g1 through 6.1.2g4 in their entirety; the same substantive information is included in items 6.1.2a through 6.1.2f.]

* * * * *

6.4 Requester Publications

* * * * *

6.4.2 Circulation Standards

Requester publications must meet these circulation standards:

* * * * *

[Revise item 6.4.2b as follows:]

b. Subscription copies of the publications that are paid for or promised to be paid for, including those at or below a nominal price, may be included in the 50% request requirement. (For inclusion of electronic copies, see 6.5.)

* * * * *

[Revise items 6.4.2d through 6.4.2f as follows:]

d. Records of requests for a publication must be kept so that subscriptions or requests for each publication can be verified.

e. Requests more than 3 years old are not valid requests. Copies addressed using an alternative address format are not considered requested copies.

f. For a requester publication issued by a membership organization, the organization may adopt a resolution that each member receives a copy of each issue. Records must be kept to show that the publication is sent to members.

Form 3500 must be accompanied by a copy of the resolution and written assurance that the required records are kept.

* * * * *

6.7 News Agent Registry

6.7.1 Definition

[Revise the text of 6.7.1 by including text from current 6.7.2 as follows:]

The term news agent means a person or concern selling two or more Periodicals publications published by more than one publisher. A news agent must be authorized by the USPS before the agent may mail publications at Periodicals prices.

[Delete current 6.7.2, Authorization; text is relocated to 6.7.1.]

[Renumber current 6.7.3 through 6.7.5 as new 6.7.2 through 6.7.4.]

* * * * *

6.7.3 Unsold Copies

[Revise the text of renumbered 6.7.3 as follows:]

Unsold copies returned to the publishers or sent to other news agents or sent to persons not having subscriptions with news agents, are subject to the Outside-County Periodicals prices.

* * * * *

7.0 Mailing to Nonsubscribers or Nonrequesters

7.1 Sample Copies

[Revise the text of 7.1 as follows:]

Sample copies are nonsubscriber or nonrequester copies and may be mailed at prices according to standards in 7.0 and 10.0.

7.2 Simplified Address

[Revise the text of 7.2 as follows:]

Copies addressed with simplified addresses under 602.3.2 may be mailed only to nonsubscribers or nonrequesters. If a subscriber or requester receives a simplified address copy in addition to the subscriber or requester copy, the additional copy is considered a nonsubscriber or nonrequester copy.

* * * * *

7.4 Gift Subscriptions

[Revise the text of 7.4 as follows:]

Copies sent to persons whose subscriptions were paid by other individuals as gifts are considered subscriber copies. Subscriptions paid by advertisers or other persons promoting their own interests, and subscriptions given free by the publisher, are not gift subscriptions, and are considered nonsubscriber or nonrequester copies.

7.57 Exchange Copies

[Revise the text of 7.5 as follows:]

A small part of the distribution list may contain publishers to whom one copy each is sent in exchange for a copy of the recipients' publications. These exchange copies are considered subscriber or requester copies.

* * * * *

7.7 Complimentary Copies

[Revise the text of 7.7 as follows:]

All complimentary copies are considered nonsubscriber or nonrequester copies.

7.8 Proof Copies

[Revise the text of 7.8 as follows:]

One complete copy of each issue may be mailed to each advertiser (or agent) in the issue to prove that the advertisements are printed. These copies are considered subscriber or requester copies. Any additional copies sent to an advertiser (or agent) are considered nonsubscriber or nonrequester copies.

* * * * *

9.0 Changing Title, Frequency, or Known Office of Publication

9.1 General

9.1.1 When Required

[Revise the text of 9.1.1 as follows:]

Except under 9.1.2, the publisher must file an application for reentry on Form 3510 to the original entry Postmaster to change the title, frequency of issue; or to change location of the known office of publication of an authorized Periodicals publication by submitting Form 3510 to the Postmaster whose service area oversees the new location.

* * * * *

[Delete current 9.1.3, Where to File, in its entirety (text moved to 9.1.1).]

[Renumber current 9.1.4 through 9.1.4 as new 9.1.3 through 9.1.4.]

[Delete current 9.1.6, Same County, in its entirety; the same information appears in 707.11.3.]

[Renumber current 9.1.7 as new 9.1.5 and revise as follows:]

9.1.5 Filing Date

Publishers changing the title or frequency of a publication must file Form 3510 by the date on which copies are to be issued with the new title or on the new frequency.

[Delete current 9.1.8, Effective Date, in its entirety; the same information is in current 9.3.5.]

[Renumber current 9.1.9 through 9.1.12 as new 9.1.6 through 9.1.9.]

* * * * *

9.1.7 Application Fee

[Revise the text of renumbered 9.1.7 as follows:]

The correct (nonrefundable) fee must accompany an application (Form 3510) for reentry. No additional fee is required when a revised Form 3500 is required as part of a reentry application.

9.1.8 Multiple Reentry Requests

[Revise the text of renumbered 9.1.8 as follows:]

A publisher may file one Form 3510 and pay one fee to request multiple reentry actions under 9.1 if all documentation is submitted with the Form 3510 under 9.1.3; and the effective dates for the reentry actions do not cover more than 30 calendar days. The publisher must submit a separate Form 3510 (and pay the fee) for each reentry action that cannot meet these conditions.

9.1.9 Other Actions

[Revise the text of renumbered 9.1.9 as follows:]

A publisher must submit a separate Form 3510 (and pay the fee) for each reentry action under 28.4, 30.0, 10.0 (no fee), or 9.2. A publisher must file a separate Form 3510 (and pay the fee) if the publication's distribution plan is modified other than the frequency of issuance or the location of the original entry Post Office.

9.2 Changing Qualification Categories

[Revise the text of 9.2 as follows:]

To change the category under which a publication is authorized Periodicals mailing privileges, the publisher must file a revised Form 3500 and an application for reentry on Form 3510 with the original entry Postmaster and pay the applicable fee. See 9.1.2 for when a reentry application may not be required.

[Delete current 9.2.1, 9.2.2, 9.2.3, and 9.2.4 in their entirety (the text of 9.2.1, 9.2.3, and 9.2.4 are merged into new text in 9.2; the text of 9.2.2 is already covered in current 9.1.2).]

9.3 Application for Reentry

9.3.1 Pending

While an application for reentry is pending, copies of an authorized Periodicals publication are accepted for mailing at the Periodicals prices, subject to 9.3.5.

[Delete current 9.3.2, Additional Information, in its entirety; the same information is in current 9.3.3.]

[Renumber current 9.3.3 through 9.3.5 as new 9.3.2 through 9.3.4, and revise the text of renumbered 9.3.2 as follows:]

9.3.2 Proof of Compliance

The publisher must be able to show (via circulation and other records) to USPS satisfaction that the reentered publication still meets all Periodicals standards. Failure to provide this evidence is sufficient grounds to deny the reentry request.

* * * * *

9.3.4 Effective Date

[Revise the text of renumbered 9.3.4 as follows:]

An entry office may not be used before authorization by the USPS. A publisher may not pay postage at another price to deposit copies at an unauthorized entry office. Subject to the restrictions in 9.1, the effective date of a reentry authorization is the application date or the eligibility date (if the publication became eligible after the application date). The requested date for a change in original entry office may be deferred until sufficient transportation or other resources are in place. If deferral is due to USPS transportation contract limitations, the publisher's requested date may be approved with the publisher's agreement to reimburse the USPS for costs caused by modifying contracted transportation.

[Delete current 9.3.6, Denial After Verification, in its entirety; the same information is in current 9.3.7.]

[Renumber current 9.3.7 through 9.3.12 as new 9.3.5 through 9.3.10.]

[Revise the title and text of renumbered 9.3.5 as follows:]

9.3.5 Denial

If the PCSC manager denies an application, a written notice of the reasons is provided to the publisher. The denial takes effect 15 days from the publisher's receipt of the notice, unless the publisher files an appeal under 9.3.6 within that time. Alternatively, the publisher may return to the publication status before the application for reentry was submitted.

* * * * *

12.0 Nonbarcoded (Presorted) Eligibility

12.1 Basic Standards

* * * * *

12.3 Prices—In-County

12.3.1 Five-Digit Prices

5-digit prices apply to:

* * * * *

[Add new item 12.3.1c as follows:]

c. Qualifying flats included in a FSS 5-digit scheme pool under 705.14.

* * * * *

12.3.2 Three-Digit Prices

3-digit prices apply to:

* * * * *

[Add new 12.3.2c as follows]

c. Flat-size pieces not qualifying for carrier route or 5-digit prices, but properly included in a FSS 5-digit scheme pool prepared under 705.14.

* * * * *

13.0 Carrier Route Eligibility

* * * * *

13.2 Sorting

* * * * *

13.2.2 Sequencing Requirements

[Revise the introductory text of 13.2.2 as follows:]

Except for flats properly prepared under FSS standards in 705.14, carrier route mail must be prepared in delivery sequence as follows:

* * * * *

13.3 Walk-Sequence Prices

13.3.1 Eligibility

[Revise the text of 13.3.1 as follows]

The high density or saturation prices apply to each walk-sequenced piece in a carrier route mailing, eligible under 13.2.1 and prepared under 705.8.0, 23.0, or (nonletter-size mail only) 705.10.0, 705.12.0, or 705.13.0, that also meets the corresponding addressing and density standards in 13.3.4. High density and saturation price mailings must be prepared in carrier walk sequence according to schemes prescribed by the USPS (see 23.8), except for qualifying high density flats that are properly included in FSS 5-digit scheme pools under 705.14.

14.0 Barcoded (Automation) Eligibility

* * * * *

14.4 Prices—In-County

14.4.17 Five-Digit Prices

5-digit automation prices apply to:

* * * * *

[Add new item 14.4.1c as follows:]

c. Qualifying flats included in a FSS 5-digit scheme pool under 705.14.

* * * * *

14.4.2 Three-Digit Prices

3-digit automation prices apply to:

* * * * *

[Add new item 14.4.2c as follows]

c. Flat-size pieces not qualifying for carrier route or 5-digit prices, but properly included in a FSS 5-digit scheme pool prepared under 705.14

* * * * *

18.0 General Mail Preparation

18.1 Definition of Presort

[Revise the text of 18.1 as follows:]

“Presort” is the process by which a mailer prepares mail so that it is sorted to at least the finest extent required by the standards.

18.2 Definition of Mailings

“Mailings” are defined as:

[Revise item 18.2a as follows:]

a. A mailing is a group of pieces within the same class of mail and the same processing category that are sorted together and presented under a minimum volume mailing requirement. Specific standards may define whether separate mailings may be combined, palletized, reported, or deposited together.

* * * * *

[Add a new 18.5 as follows:]

18.5 FSS Preparation

Except for Periodicals flats mailed at In-County prices, Periodicals flats mailings of 5,000 pieces or less mailed at Outside-County prices, Periodicals flats mailed at saturation, High Density prices, or otherwise excepted Periodicals flats mailings, all Periodicals flats (including nonmachinable flats up to 1-inch thick may be included if they meet the standards in 705.14) destinating to FSS zones as shown in L006, must be prepared under 705.14. Mailings of In-county Periodicals flats, Outside-county Periodicals flats mailings of 5,000 pieces or less, and Periodicals qualifying for High-Density prices may be included in FSS 5-digit scheme pools.

* * * * *

29.0 Destination Entry

* * * * *

29.4 Destination Sectional Center Facility

* * * * *

29.4.2 Price Eligibility

Determine price eligibility as follows:

* * * * *

[Delete the last sentence of the introductory text of 29.4.2b, and delete 29.4.2b1 and b2 in their entirety, so that item b reads as follows:]

b. Container Prices. Mailers may claim the DSCF container price for SCF and more finely presorted containers that are entered at and destined within the service area of the SCF at which the container is deposited.

* * * * *

[Renumber current 29.5. as new 29.6, and add a new 29.5 as follows:]

29.5. Destination Flat Sequencing System (DFSS) Facility Entry

29.5.1 Definition

For this standard, destination Flat Sequencing System Facility (DFSS) refers to the facilities listed in L006, Column C.

29.5.2 Eligibility

DFSS prices apply to pieces deposited at a USPS-designated FSS processing facility and correctly placed in a flat tray, sack, or on a pallet, labeled to a FSS sort plan or labeled to a 5-digit destination processed by that facility, under labeling list L006. These pieces must include a full delivery address and meet the physical standards for FSS-machinability in 705.14.0.

* * * * *

708 Technical Specifications

* * * * *

6.0 Standards for Barcoded Tray Labels, Sack Labels, and Container Placards

* * * * *

6.2 Specifications for Barcoded Tray and Sack Labels

6.2.1 Use

Exhibit 6.2.1 shows the types of mail requiring barcoded tray or sack labels. Barcoded labels must meet these general standards:

* * * * *

[Revise the text of item 6.2.1b as follows:]

b. Mailer-produced barcoded labels must meet the standards in 6.0, and tray labels must be non-adhesive.

* * * * *

6.2.4 3-Digit Content Identifier Numbers

* * * * *

Exhibit 6.2.4 3-Digit Content Identifier Numbers

CLASS AND MAILING | CIN | HUMAN-READABLE CONTENT LINER

* * * * *

PERIODICALS (PER)

* * * * *

PER Flats —

Merged Carrier Route, Barcoded, and Nonbarcoded

* * * * *

[Add a new third row as follows:]

FSS scheme and FSS facility 349 PER FLTS 5D FSS SCH BC

* * * * *

PERIODICALS (NEWS)

* * * * *

NEWS Flats —

Merged Carrier Route, Barcoded, and Nonbarcoded

* * * * *

[Add a new third row as follows:]

FSS scheme and FSS facility 449 NEWS FLTS 5D FSS SCH BC

* * * * *

STANDARD MAIL

* * * * *

STD Flats —

Merged Carrier Route, Automation, and Presorted

* * * * *

[Add a new third row as follows:]

FSS scheme and FSS facility 549 STD FLTS 5D FSS SCH BC

* * * * *

PACKAGE SERVICES

* * * * *

BPM Flats—Cosacked Barcoded and Presorted

* * * * *

[Add a new second row as follows:]

FSS scheme and FSS facility 638 PSVC FLTS 5D FSS SCH BC

* * * * *

We will publish an appropriate amendment to 39 CFR part 111 to reflect these changes.

Stanley F. Mires,
Attorney, Legal Policy & Legislative Advice.

[FR Doc. 2013-29879 Filed 12-17-13; 8:45 am]

BILLING CODE 7710-12-P